NATIONAL SCIENCE FOUNDATION

Notice of Permit Application Received Under the Antarctic Conservation Act of 1978

AGENCY: National Science Foundation.

ACTION: Notice of Permit Applications Received Under the Antarctic Conservation Act.

SUMMARY: Notice is hereby given that the National Science Foundation (NSF) has received a waste management permit application for deployment of approximately 30 Argo floats in the Weddell Sea and southern Indian Ocean, along cruise tracks of the German vessel POLARSTERN and the Norwegian vessel G.O. SARS during their voyages leaving from Cape Town early in 2008. The floats will drift freely at a depth of 1,000 or 2,000 meters for ten days, then ascent to the surface collecting temperature, salinity and pressure readings at 500-1000 depth. The profile data will be transmitted via Iridium satellite system. The floats are designed to last for about 200 cycles, or over 5 years. The application is submitted to NSF pursuant to regulations issued under the Antarctic Conservation Act of 1978.

DATES: Interested parties are invited to submit written data, comments, or views with respect to this permit application by December 19, 2007. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Dr. Polly A. Penhale, Environmental Officer at the above address or (703) 292-8030.

SUPPLEMENTARY INFORMATION: NSF's Antarctic Waste Regulation, 45 CFR part 671, requires all U.S. citizens and entities to obtain a permit for the use or release of a designated pollutant in Antarctica, and for the release of waste in Antarctica. NSF has received a permit application under this Regulation for deployment of approximately 30 Argo floats. Conditions of the permit would include requirements to report on the actual deployment of the Argo floats, in accordance with Antarctic waste regulations.

Application for the permit is made by: Stephen C. Riser, School of Oceanography, University of Washington, Box 355350, Seattle, Washington 98195.

Location: Wedell Sea and southern Indian Ocean.

Dates: December 1, 2007 to February 28, 2008.

Nadene G. Kennedy,
Permit Officer.

[FR Doc. E7-22504 Filed 11-16-07; 8:45 am]

BILLING CODE 7555-01-P